SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer at the following addresses:

(OMB)

Office of Management and Budget, Attn: Desk Officer for SSA, New Executive Office Building, Room 10230, 725 17th St., NW, Washington, DC. 20503

(SSA)

Social Security Administration, DCFAM, Attn: Frederick W. Brickenkamp, 1-A-21 Operations Bldg., 6401 Security Blvd., Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Disability Hearing Officer's Report of Disability Hearing (DC)—0960-0507. The information collected on form SSA-1204-BK is used by the Disability Hearing Officer (DHO) to conduct and document disability hearings, and to provide a structured format that concerns all conceivable issues relating to SSI claims for disabled children. The completed form SSA-1204-BK will aid the DHO in preparing the disability decision and will provide a record of what transpired at the hearing. The respondents are DHO's in the State Disability Determination Services.

Number of Respondents: 100,000.

Frequency of Response: 1.

Average Burden Per Response: 60 minutes.

Estimated Annual Burden: 100,000 hours.

2. Report of Student Beneficiary About to Attain Age 19—0960-0274. The information collected on form SSA-1390 is used by SSA to determine a student's eligibility for Child's Social Security benefits for those turning age 19. The respondents are student Title II beneficiaries about to attain age 19.

Number of Respondents: 50,000.

Frequency of Response: 1.

Average Burden Per Response: 5 minutes.

Estimated Annual Burden: 4,167 hours.

3. Disability Hearing Officer's Report of Disability Hearing—0960-0440. The information on Form SSA-1205-BK is used by the Disability Hearing Officers (DHOs) at the Social Security Administration (SSA) as a guide to conducting and recording disability hearings. It ensures that all of the pertinent issues are considered. The respondents are DHOs in the State Disability Determination Services and Federal DHOs.

Number of Respondents: 100,000.

Frequency of Response:

Average Burden Per Response: 60 minutes.

Estimated Annual Burden: 100,000 hours.

4. Application For Benefits Under The Italy-U.S. International Social Security Agreement—0960-0445. The information collected on Form SSA-2528 is required by SSA in order to determine entitlement to benefits. The respondents are applicants for old-age, survivors or disability benefits that reside in Italy.

Number of Respondents: 200.

Frequency of Response: 1.

Average Burden Per Response: 20 minutes.

Estimated Annual Burden: 67 hours.

5. Request for Claimant Conference—0960-0608. The information collected on form SSA-378 is used by the Disability Adjudicator to complete processing of a claimant's disability claim. Depending on the response, the Disability Adjudicator schedules/conducts the Claimant Conference, awaits the receipt of additional evidence, requests additional evidence from the source, or finalizes the determination on the case. The respondents are applicants for Social Security disability and Supplemental Security Income benefits whose initial determination of disability will be less than fully favorable.

Number of Respondents: 210,500.

Frequency of Response: 1.

Average Burden Per Response: 3 minutes.

Estimated Annual Burden: 10,525 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Waiver of Your Right to Personal Appearance Before an Administrative Law Judge, HA-4608—0960-0284. Each claimant has a statutory right to appear in person (or through a representative) and present evidence about his/her claim at a hearing before an Administrative Law Judge (ALJ). If a claimant wishes to waive his/her statutory right to appear before an ALJ, he/she must complete a written request. The claimant may use form HA-4608 for this request. The information collected is used to document an individual's claim to show that an oral hearing is not preferred in the appellate process. The respondents are applicants for Social Security and Supplemental Security Income benefits who request a hearing.

Number of Respondents: 12,000.

Frequency of Response: 1.

Average Burden Per Response: 2 minutes.

Estimated Annual Burden: 400 hours.

2. Request for SSI Benefit Estimate—0960-0492. SSA uses Form SSA-3716 for Supplemental Security Income (SSI) beneficiaries who wish to request a 5-month estimate of what their benefits would be if they should return to work in the future. The respondents are SSI Recipients or Applicants for SSI Benefits.

Number of Respondents: 50,000.

Frequency of Response: 1.

Average Burden Per Response: 5 minutes.

Estimated Annual Burden: 4,167 hours.

3. Supplemental Statement Regarding Farming Activities Of Person Living Outside The U.S.A.—0960-0103. Form SSA-7163A-F4 is used by SSA to collect needed information whenever a Social Security beneficiary or claimant reports work on a farm outside the U.S. The information is used to make a determination for work deduction purposes. The respondents are Social Security beneficiaries or claimants who are engaged in farming activities outside the U.S.

Number of Respondents: 1,000.

Frequency of Response: 1.

Average Burden Per Response: 60 minutes.

Estimated Annual Burden: 1,000 hours.

Dated: April 24, 2001.
Frederick W. Brickenkamp,
Reports Clearance Officer.

[FR Doc. 01-10632 Filed 4-30-01; 8:45 am]

BILLING CODE 4191-02-P